DEPARTMENT OF COMMERCE

International Trade Administration

[A-533-889]

Certain Quartz Surface Products From India: Preliminary Results of Antidumping Duty Administrative Review, Preliminary Determination of No Shipments and Partial Rescission of Antidumping Duty Administrative Review; 2021-2022

AGENCY: Enforcement and Compliance, International Trade Administration, Department of Commerce.

SUMMARY: The U.S. Department of Commerce (Commerce) is conducting an administrative review of the antidumping duty order on certain quartz surface products (quartz surface products) from India. We preliminarily determine that Pokarna Engineered Stone Limited (PESL) and Marudhar Rocks International Pvt. Ltd./Marudhar Quartz Surface Private Limited (collectively, Marudhar Rocks) did not make sales of subject merchandise at less than normal value during the period of review (POR) June 2021, through May 31, 2022. We also preliminarily determine that one company had no shipments. Interested parties are invited to comment on these preliminary results.

DATES: Applicable July 7, 2023.

FOR FURTHER INFORMATION CONTACT: Laurel LaCivita or Joy Zhang, AD/CVD Operations, Office III, Enforcement and Compliance, International Trade Administration, U.S. Department of Commerce, 1401 Constitution Avenue NW, Washington, DC 20230; telephone: (202) 482-4243 or (202) 482-1168, respectively.

SUPPLEMENTARY INFORMATION:

Background

On June 22, 2020, Commerce published the antidumping duty order on quartz surface products from India in the Federal Register.¹ On August 9, 2022, in accordance with 19 CFR 351.221(c)(1)(i), Commerce published a notice of initiation for this administrative review.² Commerce amended this initiation to include two companies inadvertently omitted from its August 9, 2022, Initiation Notice.³ On February 13, 2023, we extended the deadline for the preliminary results to June 30, 2023.⁴ For a complete description of the events that followed the initiation of this administrative review, see the Preliminary Decision Memorandum.⁵

¹ See Certain Quartz Surface Products from India and Turkey: Antidumping Duty Orders, 85 FR 37422 (June 22, 2020) (Order).

² See Initiation of Antidumping Duty and Countervailing Duty Administrative Reviews, 87 FR 48459 (August 9, 2022) (Initiation Notice).

³ See Initiation of Antidumping Duty and Countervailing Duty Administrative Reviews, 87 FR 61278 (October 11, 2022).

⁴ See Memorandum, “Extension of Deadline for Preliminary Results of Antidumping Duty Administrative Review,” dated February 13, 2023.

⁵ See Memorandum, “Decision Memorandum for the Preliminary Results and Partial Rescission of the Administrative Review of the Antidumping Duty Order on Certain Quartz Surface Products from India; 2021-2022,” dated concurrently with, and hereby adopted by, this notice (Preliminary Decision Memorandum).

Scope of the Order

The products covered by the Order are quartz surface products from India. For a complete description of the scope, see the Preliminary Decision Memorandum.

Partial Rescission of Administrative Review

Pursuant to 19 CFR 351.213(d)(1), Commerce will rescind an administrative review, in whole or in part, if a party who requested the review withdraws the request within 90 days of the date of publication of notice of initiation of the requested review. Six companies upon which we initiated a review timely withdrew their review requests and no other interested party requested a review of their entries during the POR. As a result, Commerce is rescinding this review with respect to these six companies (ASI Industries Limited, Divine Surfaces Private Limited, Evetis Stone India Pvt. Ltd., Imperiaal Granimarmo Pvt Ltd., PM Quartz Surfaces Pvt. Ltd., and Shanmukha Exports) in accordance with 19 CFR 351.213(d)(1).

Methodology

Commerce is conducting this review in accordance with section 751(a)(2) of the Tariff Act of 1930, as amended (the Act). We calculated export price in accordance with section 772 of the Act. We calculated normal value in accordance with section 773 of the Act. For a full description of the methodology underlying these preliminary results, see the Preliminary Decision Memorandum. A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of the Review

Commerce preliminarily determines the following weighted-average dumping margins exist for the POR:

⁶ We have preliminarily determined to treat Marudhar Rocks International Pvt. Ltd. Marudhar Quartz Surface Private Limited as a single entity for this administrative review. See Memorandum, “Preliminary Affiliation and Collapsing Memorandum,” dated concurrently with this notice.

⁷ See Appendix II for a full list of the companies not individually examined in this review.

Producer/exporter | Weighted- average dumping margin (percent)
Pokarna Engineered Stone Limited | 0.00
Marudhar Rocks International Pvt. Ltd./Marudhar Quartz Surface Private Limited ⁶ | 0.00
Non-Selected Companies ⁷ | 0.00

Disclosure and Public Comment

Commerce intends to disclose the calculations performed in connection with these preliminary results to interested parties within five days after the date of publication of this notice.⁸ Interested parties may submit case briefs no later than 30 days after the date of publication of this notice.⁹ Rebuttal briefs, limited to issues raised in the case briefs, may be filed no later than seven days after the time limit for filing case briefs.¹⁰ Parties who submit case briefs or rebuttal briefs in this proceeding are encouraged to submit with each argument: (1) a statement of the issue; (2) a brief summary of the argument; and (3) a table of authorities.¹¹ Executive summaries should be limited to five pages total, including footnotes. Case and rebuttal briefs should be filed using ACCESS.¹² Note that Commerce has temporarily modified certain of its requirements for serving documents containing business proprietary information, until further notice.¹³

⁸ See 19 CFR 351.224(b).

⁹ See 19 CFR 351.309(c)(1)(ii).

¹⁰ See 19 CFR 351.309(d)(1).

¹¹ See 19 CFR 351.309(c)(2) and (d)(2) and 19 CFR 351.303 (for general filing requirements).

¹² See 19 CFR 351.303.

¹³ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically filed document must be received successfully in its entirety by Commerce's electronic records system, ACCESS, by 5 p.m. Eastern Time within 30 days after the date of publication of this notice. Requests should contain: (1) the party's name, address and telephone number; (2) the number of participants; and (3) a list of issues parties intend to discuss. Issues raised in the hearing will be limited to those raised in the respective case and rebuttal briefs.¹⁴ If a request for a hearing is made, Commerce intends to hold the hearing at a time and date to be determined. Parties should confirm by telephone the date, time, and location of the hearing two days before the scheduled date.

¹⁴ See 19 CFR 351.310(c).

Unless otherwise extended, Commerce intends to issue the final results of this administrative review, which will include the results of its analysis of issues raised in any briefs, no later than 120 days after the date of publication of these preliminary results of review, pursuant to section 751(a)(3)(A) of the Act.

Assessment Rates

Upon issuance of the final results, Commerce shall determine, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

If the weighted-average dumping margin for PESL or Marudhar Rocks is not zero or de minimis (i.e., less than 0.5 percent) in the final results of this review, we will calculate importer-specific ad valorem assessment rates for the merchandise based on the ratio of the total amount of dumping calculated for the examined sales made during the POR to each importer and the total entered value of those same sales, in accordance with 19 CFR 351.212(b)(1). Where an importer-specific ad valorem assessment rate is zero or de minimis in the final results of review, we will instruct CBP to liquidate the appropriate entries without regard to antidumping duties, in accordance with 19 CFR 351.106(c)(2). If a respondent's weighted-average dumping margin is zero or de minimis in the final results of review, we will instruct CBP not to assess duties on any of its entries in accordance with the Final Modification for Reviews, i.e., “{w}here the weighted-average margin of dumping for the exporter is determined to be zero or de minimis, no antidumping duties will be assessed.” ¹⁵ For entries of subject merchandise during the POR produced by PESL or Marudhar Rocks for which the producer did not know its merchandise was destined for the United States, we will instruct CBP to liquidate unreviewed entries at the all-others rate if there is no rate for the intermediate company (or companies) involved in the transaction.¹⁶

¹⁵ See Antidumping Proceedings: Calculation of the Weighted-Average Dumping Margin and Assessment Rate in Certain Antidumping Proceedings; Final Modification, 77 FR 8101, 8102 (February 14, 2012) (Final Modification for Reviews).

¹⁶ See Antidumping and Countervailing Duty Proceedings: Assessment of Antidumping Duties, 68 FR 23954 (May 6, 2003).

For the companies which were not selected for individual examination, we will instruct CBP to assess antidumping duties at an ad valorem assessment rate equal to the company-specific weighted-average dumping margin determined in these final results. For the companies for which the administrative review is rescinded, antidumping duties shall be assessed at a rate equal to the cash deposit of estimated antidumping duties required at the time of entry, or withdrawal from warehouse, for consumption, in accordance with 19 CFR 351.212(c)(1)(i).

Cash Deposit Requirements

The following cash deposit requirements will be effective upon publication of the final results of this administrative review for all shipments of the subject merchandise entered, or withdrawn from warehouse, for consumption on or after the publication date of the final results of this administrative review, as provided by section 751(a)(2)(C) of the Act: (1) the cash deposit rate for each company listed above will be that established in the final results of this administrative review, except if the rate is less than 0.50 percent, and therefore, de minimis within the meaning of 19 CFR 351.106(c)(1), in which case the cash deposit rate will be zero; (2) for previously reviewed or investigated companies not listed above, the cash deposit rate will continue to be the company-specific rate published for the most recently completed segment of this proceeding in which the company participated; (3) if the exporter is not a firm covered in this review, a prior review, or in the investigation but the producer is, the cash deposit rate will be the rate established for the most recently completed segment of this proceeding for the producer of the merchandise; and (4) the cash deposit rate for all other producers or exporters will continue to be the all-others rate of 1.02 percent, the rate established in the investigation of this proceeding, as adjusted for subsidy offsets.¹⁷ These cash deposit requirements, when imposed, shall remain in effect until further notice.

¹⁷ See Order, 85 FR at 37423.

Notification to Importers

This notice serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties.

Notification to Interested Parties

We are issuing and publishing these preliminary results in accordance with sections 751(a)(1) and 777(i)(1) of the Act.

Dated: June 29, 2023.
Lisa W. Wang,
Assistant Secretary for Enforcement and Compliance.

Appendix I

List of Topics Discussed in the Preliminary Decision Memorandum

I. Summary

II. Background

III. Scope of the Order

IV. Partial Rescission of Review

V. Preliminary Determination of No Shipments

VI. Companies Not Selected for Individual Examination

VII. Affiliation and Collapsing

VIII. Discussion of the Methodology

IX. Currency Conversion

X. Recommendation

Appendix II

List of Companies Not Selected for Individual Examination

1. Antique Granito Shareholders Trust

2. Antique Marbonite Private Limited

3. Argil Ceramics

4. Aro Granite Industries Ltd.

5. Asian Granito India Limited

6. Baba Super Minerals Pvt. Ltd.

7. Camrola Quartz Limited

8. Classic Marble Company Pvt. Ltd.

9. Cuarzo

10. Divya Shakti Granites Ltd

11. Divya Shakti Ltd

12. Esprit Stones Private Limited

13. Global Surfaces Limited

14. Glowstone Industries Pvt. Ltd.

15. Hi Elite Quartz LLP

16. Internaational Stones India Pvt. Ltd.

17. Keros Stone LLP

18. Mahi Granites Private Limited

19. Malbros Marbles and Granites Industries

20. Mountmine Impex Pvt. Ltd.

21. Pacific Industries Limited

22. Pacific Quartz Surfaces LLP

23. Paradigm Stone India Pvt. Ltd.

24. Pelican Buildmat Pvt. Ltd.

25. Pelican Grani Marmo Pvt. Ltd.

26. Pelican Quartz Stone

27. Prism Johnson Limited

28. QuartzKraft LLP

29. Renshou Industries

30. RMC Readymix Porselano India Limited

31. Rocks Forever

32. Safayar Ceramics Pvt. Ltd.

33. Satya Exports

34. Shivam Enterprises

35. Southern Rocks and Minerals Pvt. Ltd.

36. Sunex Stones Private Limited

37. Tab India Granites Pvt. Ltd.

38. Venkata Sri Balaji Quartz Surfaces

[FR Doc. 2023-14396 Filed 7-6-23; 8:45 am]

BILLING CODE 3510-DS-P